DEPARTMENT OF COMMERCE

Foreign-Trade Zones Board

[Docket 35-2005]

Foreign-Trade Zone 93—Raleigh/Durham, NC, Application for Subzone; Revlon Consumer Products Corporation (Cosmetic and Personal Care Products), Oxford, NC

An application has been submitted to the Foreign-Trade Zones Board (the Board) by the Triangle J Council of Governments, grantee of FTZ 93, requesting special-purpose subzone status for the manufacturing and warehousing facilities of Revlon Consumer Products Corporation (Revlon), located in Oxford, North Carolina. The application was submitted pursuant to the provisions of the Foreign-Trade Zones Act, as amended (19 U.S.C. 81a-81u), and the regulations of the Board (15 CFR part 400). It was formally filed on July 26, 2005.

The Revlon facility (123 acres, 2,087 employees) is located at 1501 Williamsboro Street, Oxford, Granville County, North Carolina. The facility is used for the manufacturing and warehousing of cosmetic and personal care products including nail enamel, hair care products, cosmetics, skin care, products anti-perspirants/deodorants and fragrances (HTS 3208.90, 3303.00, 3304.10, 3304.20, 3304.30, 3304.91, 3304.99, 3305.10, 3305.20, 3305.30, 3305.90 and 3307.20). Components and materials sourced from abroad represent some 25% of all parts consumed in manufacturing. The primary inverted tariff savings will come from the following components: plastic packaging materials, powder puffs and glass containers (HTS 3923.10, 3923.30, 3923.50, 3923.90, 3924.90, 3926.90, 7010.90 and 9616.20, duty rates range from 2.5 to 5.3%). The company is also requesting authority to import components for manufacturing under FTZ procedures under the following categories: HTS 1108.11, 1209.30, 1505.00, 1513.29, 1520.00, 2204.21, 2505.10, 2513.19, 2526.20, 2707.99, 2710.99, 2804.61, 2805.11, 2821.10, 2901.10, 2905.17, 2905.41, 2906.13, 2909.20, 2912.30, 2915.13, 2915.22, 2915.29, 2915.39, 2916.39, 2917.12, 2917.37, 2917.39, 2918.30, 2919.00, 2923.20, 2933.19, 2933.29, 2933.59, 2936.26, 2936.28, 3302.90, 3303.00, 3304.10, 3304.20, 3304.30, 3304.91, 3304.99, 3305.10, 3305.90, 3307.10, 3307.20, 3307.30, 3401.11, 3401.19, 3402.13, 3402.19, 3402.90, 3501.90, 3505.10, 3507.90, 3808.30, 3808.40, 3823.13, 3823.19, 3823.70, 3902.10, 3902.90, 3903.19, 3906.10, 3906.90, 3907.30, 3909.30, 3910.00, 3912.39, 3912.90, 3919.10, 3920.91, 3921.90, 3923.10, 3923.21, 3923.29, 3923.30, 3923.40, 3923.50, 3923.90, 3924.90, 3926.20, 3926.40, 3926.90, 4808.10, 4811.59, 4819.10, 4819.20, 4819.40, 4819.50, 4821.10, 4821.90, 4822.90, 4908.90, 6506.10, 6805.20, 6806.20, 6815.99, 7009.92, 7010.20, 7010.90, 7013.99, 7612.10, 7616.99, 8203.20, 8205.59, 8205.70, 8213.00, 8214.10, 8214.20, 8214.90, 8306.30, 8413.20, 8413.81, 9603.29, 9603.30, 9603.40, 9605.00, 9615.11, 9616.10, 9616.20 (duty rate ranges from duty-free to 9%). In addition, the application indicates that they may import products under Chapter 32 or 42 of the HTSUS, but that such products would be admitted to the subzone in domestic or privileged-foreign status.

FTZ procedures would exempt Revlon from Customs duty payments on the foreign components used in export production. Some 22 percent of the plant's shipments are exported. On its domestic sales, Revlon would be able to choose the duty rates during Customs entry procedures that apply to cosmetic and personal care products (duty-free to 4.9%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is October 3, 2005. Rebuttal comments in response to material submitted during the foregoing period may be submitted during the subsequent 15-day period (to October 17, 2005).

A copy of the application and accompanying exhibits will be available for public inspection at the Office of the Foreign-Trade Zones Board's Executive Secretary at the first address listed above, and at the U.S. Department of Commerce Export Assistance Center, 10900 World Trade Assistance Center, Suite 110, Raleigh, NC 27617.

Dated: July 26, 2005.
Dennis Puccinelli,
Executive Secretary.

[FR Doc. 05-15368 Filed 8-2-05; 8:45 am]

BILLING CODE 3510-DS-P